INTERNATIONAL TRADE COMMISSION

[Investigation Nos. 731-TA-1174-1175 (Final)]

Seamless Refined Copper Pipe and Tube From China and Mexico

Determinations

On the basis of the record ¹ developed in the subject investigations, the United States International Trade Commission (“Commission”) determines, pursuant to section 735(b) of the Tariff Act of 1930 (19 U.S.C. 1673d(b)) (the Act), that an industry in the United States is threatened with material injury 2 3 4 by reason of imports of seamless refined copper pipe and tube (“SRC pipe and tube”) from China and Mexico provided for in subheadings 7411.10.10 and 8415.90.80 of the Harmonized Tariff Schedule of the United States, that have been found by the Department of Commerce (“Commerce”) to be sold in the United States at less than fair value (“LTFV”).

¹ The record is defined in Sec. 207.2(f) of the Commission's Rules of Practice and Procedure (19 CFR 207.2(f)).

² Chairman Deanna Tanner Okun, Vice Chairman Irving A. Williamson, Commissioner Daniel R. Pearson, and Commissioner Shara L. Aranoff determine that they would not have found material injury but for the suspension of liquidation.

³ Commissioner Charlotte R. Lane determines that the domestic SRC pipe and tube industry is materially injured by reason of imports of the subject merchandise from China and Mexico.

⁴ Commissioner Dean A. Pinkert did not participate in these investigations.

Background

The Commission instituted these investigations effective on September 30, 2009, following receipt of a petition filed with the Commission and Commerce by Cerro Flow Products, Inc., St. Louis, MO; Kobe Wieland Copper Products, LLC, Pine Hall, NC; Mueller Copper Tube Products, Inc. and Mueller Copper Tube Company, Inc., Memphis, TN. The final phase of these investigations was scheduled by the Commission following notification of preliminary determinations by Commerce that imports of SRC pipe and tube from China and Mexico were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of June 11, 2010 (75 FR 33330). The hearing was held in Washington, DC, on September 23, 2010, and all persons who requested the opportunity were permitted to appear in person or by counsel.

The Commission transmitted its determinations in these investigation to the Secretary of Commerce on November 15, 2010. The views of the Commission are contained in USITC Publication 4193 (November 2010), entitled Seamless Refined Copper Pipe and Tube from China and Mexico: Investigation Nos. 731-TA-1174-1175 (Final).

By order of the Commission.
Issued: November 15, 2010.
Marilyn R. Abbott,
Secretary to the Commission.

[FR Doc. 2010-29301 Filed 11-19-10; 8:45 am]

BILLING CODE 7020-02-P